DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before May 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Fiscal Service (FS)

1. Title: Trace Request for Electronic Funds Transfer (EFT) Payment.

OMB Control Number: 1530-0002.

Type of Review: Extension of a currently approved collection.

Description: These forms are used to notify the financial organization that a customer (beneficiary) has claimed non-receipt of credit for a payment. The forms are designed to help the financial organization locate any problems and to keep the customer (beneficiary) informed of any action taken.

Form: FS Form 150.1 and FS Form 150.2.

Affected Public: Businesses or other for-profits.

Estimated Number of Respondents: 203,719.

Estimated Total Number of Annual Responses: 203,719.

Estimated Time per Response: 8 minutes.

Estimated Total Annual Burden Hours: 27,162 hours.

2. Title: Creditor's Request For Payment of Treasury Securities Belonging To A Decedent's Estate Being Settled Without Administration.

OMB Control Number: 1530-0027.

Type of Review: Extension of a currently approved collection.

Description: The information is requested to obtain a creditor's consent to dispose of savings bonds/notes in settlement of a deceased owner's estate without administration.

Form: FS Form 1050.

Affected Public: Individuals or Households.

Estimated Number of Respondents: 2,200.

Estimated Total Number of Annual Responses: 2,200.

Estimated Time per Response: 6 minutes.

Estimated Total Annual Burden Hours: 220 hours.

Authority: 44 U.S.C. 3501 et seq.

Molly Stasko,
Treasury PRA Clearance Officer.

[FR Doc. 2022-09100 Filed 4-27-22; 8:45 am]

BILLING CODE 4810-AS-P